OFFICE OF THE UNITED STATES TRADE REPRESENTATIVE

Notice of Issuance by the Free Trade Area of the Americas (FTAA) Committee of Government Representatives on the Participation of Civil Society of an Open and Ongoing Invitation for Public Comment

AGENCY: Office of the United States Trade Representative (USTR).

ACTION: Notice.

SUMMARY: The Office of the United States Trade Representative (USTR) is providing notice that the Committee of Government Representatives on the Participation of Civil Society (Civil Society Committee), established by the 34 countries participating in the negotiations for the Free Trade Area of the Americas (FTAA), has issued an Open and Ongoing Invitation for public comment on all aspects of the FTAA, including: The second draft consolidated texts of the FTAA Agreement, released to the public on November 1, 2002; the ongoing FTAA negotiations; and the FTAA process in general. Submissions in response to the Invitation should be sent directly to the FTAA addresses indicated below.

DATES: Public comment in response to the Open and Ongoing Invitation is welcome by the FTAA Civil Society Committee on a continuing basis. For submissions to be reflected in the Committee's Report to the FTAA Ministers for their eighth meeting in Miami, Florida in the fourth quarter of 2003, submissions must be received by the Chairperson of the FTAA Civil Society Committee no later than May 1, 2003.

ADDRESSES: The public is strongly encouraged to submit documents electronically. Submissions should be sent directly to the “Chair of the Committee of Government Representatives on the Participation of Civil Society,” at only one of the following addresses:

Submissions by electronic mail: soc@ftaa-alca.com.

Please note that submissions from civil society will be received at the addresses below up to February 24, 2003. After this date, the official FTAA Web site (http://www.ftaa-alca.org) will list the corresponding addresses of the new headquarters of the FTAA Administrative Secretariat in Puebla, Mexico.

Submissions by facsimile: (011) (507) 270-6993.

Via Postal Mail: c/o Secretaria del Area de Libre Comercio de Las Americas (ALCA), Apartado Postal 89-10044, Zona 9, Cuidad de Panama, Republica de Panama.

Via Private Messenger/Couriere Service: c/o Secretaria del Area de Libre Comercio de Las Americas (ALCA), Hotel Caesar Park Panama, Via Israel y Calle 77, San Francisco, Cuidad de Panama, Republica de Panama.

FOR FURTHER INFORMATION CONTACT: The official version of the Open and Ongoing Invitation for public comment and a cover sheet identifying information to be included with submissions to the Civil Society Committee are available on the USTR Web site (http://www.ustr.gov) and the official FTAA Web site (http://www.ftaa-alca.org). The cover sheet is reproduced below. The USTR and FTAA Web sites also contain background information regarding the FTAA negotiations, including the second draft consolidated texts of the FTAA agreement, the Civil Society Committee's Report of November 2002 to the FTAA Trade Ministers, and the Quito Ministerial Declaration. Any questions concerning the Open and Ongoing Invitation should be addressed to Christina Sevilla, Director, USTR's Office of Intergovernmental Affairs and Public Liaison, at (202) 395-6120. Questions regarding the FTAA negotiations should be addressed to the agency's Office of the Americas at (202) 395-5190.

SUPPLEMENTARY INFORMATION:

1. Background

Committee of Government Representatives on the Participation of Civil Society

At the 1998 FTAA Ministerial meeting in San Jose, Costa Rica, the hemishpere's trade Ministers jointly recognized and welcomed the interests and concerns expressed by a broad spectrum of interested non-governmental parties in the hemisphere, and encouraged these and other parties to provide their views on trade matters related to the FTAA negotiations. In order to facilitate this process, the Ministers agreed to establish the FTAA Civil Society Committee. Since its first meeting in October 1998, the Committee has approved four Open Invitations, the latest on December 10, 2002, soliciting views from the hemisphere's public. The Open Invitations were announced on the FTAA Web site, and countries agreed to use national mechanisms to disseminate the invitations further. In the United States, the invitations were disseminated through a variety of means, including press releases, notices to advisory committees, Federal Register notices, and public meetings.

The Committee has prepared reports for Ministers describing the submissions it received from the public. These reports have been published on the official FTAA Web site. Since April 2001, the Committee has provided, directly to the negotiators in each FTAA entity, the submissions received from the public.

Quito Ministerial Mandate

At the seventh FTAA Ministerial Meeting held in Quito, Ecuador, on November 1, 2002, (Quito Ministerial) the Ministers responsible for trade in the hemisphere reaffirmed their commitment to the principle of transparency in the FTAA process and recognized the need to enhance and sustain participation of the different sectors of civil society in this process.

At the close of the Quito Ministerial, the Ministers issued a declaration in which they acknowledged the receipt of the contributions submitted in response to the Committee's Third Open Invitation to Civil Society (issued 1 November 2001), and thanked the organizations and persons who took the time and effort to contribute their views. Ministers also reiterated their instruction to the Committee to continue to forward to the FTAA entities the contributions submitted by civil society that refer to their respective issue areas, along with those related to the FTAA process in general.

Public Release of FTAA Draft Texts

At the Quito Ministerial meeting, Western Hemisphere trade Ministers decided to make public the second FTAA draft consolidated texts. The Ministers' prior decision to release the first version of the draft consolidated texts of the FTAA Agreement was endorsed by the hemisphere's leaders at the Quebec Summit of the Americas on April 20-22, 2001.

The second draft consolidated texts were made available on November 1, 2002 on the USTR Web site and on the official FTAA Web site in all four languages. The texts were produced by the nine FTAA Negotiating Groups (market access; agriculture; services; intellectual property rights; investment; government procurement; competition policy; dispute settlement; and subsidies, antidumping and countervailing duties) and by the FTAA Technical Committee on Institutional Issues. The second draft consolidated texts contain many brackets, indicating that the text enclosed by such brackets has not been agreed to by all FTAA governments.

2. Invitation for Public Comments

On December 10, 2002, the FTAA Civil Society Committee issued an Open and Ongoing Invitation to the public in the Western Hemisphere for written comments on the FTAA process. The Open and Ongoing Invitation is an important part of U.S. efforts to ensure that the views of the public receive consideration in the FTAA negotiating process and to encourage the public's participation.

Public comment in response to the Open and Ongoing Invitation is welcome by the FTAA Civil Society Committee on a continuing bases. Comments received by the Committee through May 1, 2003 will form the basis for the Committee's next report to the FTAA trade Ministers.

3. Requirements for Submission

In order to be considered, each submission must:

—Identify the submitter(s), specifying name(s) and contact information;

—Make reference to matters relating to the FTAA process and/or the second draft FTAA Agreement;

—Be in written form, in at least one of the official FTAA languages (Spanish, English, French, Portugese);

—Be accompanied by the cover sheet which follows (and also is available on the USTR and FTAA Web sites), with an indication of the FTAA entity or entities to which contribution pertains;

—If greater than five pages, include an executive summary, no longer than two pages, which summarizes and identifies the issues considered in the document. (The FTAA Secretariat will translate all executive summarizes and contributions if less than five pages.)

—Be sent directly to the Chair of the Committee of Government Representatives on the Participation of Civil Society at one of the above addresses.

Contributions in response to the Committee's Open and Ongoing Invitation can be submitted by e-mail, fax, courier, or postal mail and must be accompanied by the submission cover sheet (reproduced below). In the interest of facilitating translation into the working languages of the FTAA (English and Spanish) and distribution among the countries of the hemisphere, it is highly recommended that contributions be submitted via e-mail or otherwise in electronic format (i.e., on computer diskette), to one of the addresses above. Contributions submitted by other means will be given equal consideration and every effort will be made to process the transmission of these documents expeditiously.

In a separate notice being published today, the interagency Trade Policy Staff Committee (TPSC) is inviting comments on the second draft consolidated texts of the FTAA Agreement. Members of the public may choose to submit comments to the FTAA Civil Society Committee as specified above, the TPSC, or both.

Christina Sevilla,
Director, Intergovernmental Affairs and Public Liaison.

FTAA—Committee of Government Representatives on the Participation of Civil Society (SOC); Cover Sheet for Open Invitation Contributions

Name(s)

Organization(s)

Address

Telephone

E-mail

Country

Fax

Number of Pages

Language

Contribution covers the following country(ies)

or region(s):

FTAA Entities

(Please check the FTAA Entity(ies) addressed in the contribution).

Negotiating Group on Agriculture

Negotiating Group on Competition Policy

Negotiating Group on Dispute Settlement

Negotiating Group on Government Procurement

Negotiating Group on Intellectual Property Rights

Negotiating Group on Investment

Negotiating Group on Market Access

Negotiating Group on Services

Negotiating Group on Subsidies, Antidumping and Countervailing Rights

Committee of Government Representatives on the Participating of Civil Society

Joint Government-Private Sector Committee of Experts on Electronic Commerce

Consultative Group on Smaller Economies

Technical Committee on Institutional Issues (general and institutional aspects of the FTAA Agreement)

FTAA Process (check if the contribution is of relevance of all the entities)

Executive Summary: (2 pages maximum) must accompany any contribution with more than five pages. (Executive summaries of contributions of more than five pages as well as contributions totaling less than five pages are to be forwarded to FTAA Negotiating Groups and other Entities according to the information provided above.)

[FR Doc. 02-32767 Filed 12-26-02; 8:45 am]

BILLING CODE 3190-01-P